DEPARTMENT OF ENERGY

Federal Energy Regulatory Commission

Combined Notice of Filings #3

Take notice that the Commission received the following electric rate filings:

Docket Numbers: ER10-1586-007; ER10-1630-007.

Applicants: Big Sandy Peaker Plant, LLC, Wolf Hills Energy, LLC.

Description: Notification of Change in Status of the Avenue MBR Sellers, et al.

Filed Date: 3/30/20.

Accession Number: 20200330-5430.

Comments Due: 5 p.m. ET 4/20/20.

Docket Numbers: ER20-1446-000.

Applicants: PJM Interconnection, L.L.C.

Description: § 205(d) Rate Filing: Amendment to ISA, SA No. 4541; Queue No. W1-124/AA2-049 (amend) to be effective 9/20/2016.

Filed Date: 3/31/20.

Accession Number: 20200331-5120.

Comments Due: 5 p.m. ET 4/21/20.

Docket Numbers: ER20-1447-000.

Applicants: Brookfield Energy Marketing US LLC.

Description: Compliance filing: New eTariff Baseline and Revised MBR Tariff to be effective 4/1/2020.

Filed Date: 3/31/20.

Accession Number: 20200331-5125.

Comments Due: 5 p.m. ET 4/21/20.

Docket Numbers: ER20-1448-000.

Applicants: PacifiCorp.

Description: § 205(d) Rate Filing: Avangrid Const Agmt for Klamath Metering (Rev 1) to be effective 5/31/2020.

Filed Date: 3/31/20.

Accession Number: 20200331-5126.

Comments Due: 5 p.m. ET 4/21/20.

Docket Numbers: ER20-1449-000.

Applicants: Midcontinent Independent System Operator, Inc., Entergy Services, LLC.

Description: § 205(d) Rate Filing: 2020-03-31_Entergy NOL Filing to be effective 6/1/2020.

Filed Date: 3/31/20.

Accession Number: 20200331-5128.

Comments Due: 5 p.m. ET 4/21/20.

Docket Numbers: ER20-1450-000.

Applicants: Entergy Louisiana, LLC.

Description: § 205(d) Rate Filing: ELL-Cleco 2nd Amended Implementation Agreement to be effective 6/1/2020.

Filed Date: 3/31/20.

Accession Number: 20200331-5132.

Comments Due: 5 p.m. ET 4/21/20.

Docket Numbers: ER20-1451-000.

Applicants: PJM Interconnection, L.L.C.

Description: § 205(d) Rate Filing: Enhancement of PJM's Credit Rules to be effective 6/1/2020.

Filed Date: 3/31/20.

Accession Number: 20200331-5142.

Comments Due: 5 p.m. ET 4/21/20.

Docket Numbers: ER20-1452-000.

Applicants: Southern California Edison Company.

Description: § 205(d) Rate Filing: 2020 TACBAA Update to be effective 6/1/2020.

Filed Date: 3/31/20.

Accession Number: 20200331-5147.

Comments Due: 5 p.m. ET 4/21/20.

Docket Numbers: ER20-1453-000.

Applicants: Midcontinent Independent System Operator, Inc.

Description: § 205(d) Rate Filing: 2020-03-31_Revisions to Schedule 17 Financial Schedules to be effective 6/1/2020.

Filed Date: 3/31/20.

Accession Number: 20200331-5202.

Comments Due: 5 p.m. ET 4/21/20.

Docket Numbers: ER20-1454-000.

Applicants: New England Power Pool Participants Committee.

Description: § 205(d) Rate Filing: Apr 2020 Membership Filing to be effective 3/1/2020.

Filed Date: 3/31/20.

Accession Number: 20200331-5205.

Comments Due: 5 p.m. ET 4/21/20.

Docket Numbers: ER20-1455-000.

Applicants: Cordova Energy Company LLC.

Description: § 205(d) Rate Filing: Reactive Power Compensation Tariff Filing to be effective 4/1/2020.

Filed Date: 3/31/20.

Accession Number: 20200331-5212.

Comments Due: 5 p.m. ET 4/21/20.

Docket Numbers: ER20-1456-000.

Applicants: The Empire District Electric Company.

Description: § 205(d) Rate Filing: Revised Service Agreement and Revised Wholesale Distribution Service Agreement to be effective 6/1/2020.

Filed Date: 3/31/20.

Accession Number: 20200331-5222.

Comments Due: 5 p.m. ET 4/21/20.

Docket Numbers: ER20-1457-000.

Applicants: Wisconsin Power and Light Company.

Description: § 205(d) Rate Filing: ACEC Amendment to Wholesale Power Agreement to be effective 6/1/2020.

Filed Date: 3/31/20.

Accession Number: 20200331-5259.

Comments Due: 5 p.m. ET 4/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2020.
Nathaniel J. Davis, Sr.,
Deputy Secretary.

[FR Doc. 2020-07194 Filed 4-6-20; 8:45 am]

BILLING CODE 6717-01-P